DEPARTMENT OF THE TREASURY

Government Securities: Call for Large Position Reports

AGENCY: Office of the Assistant Secretary for Financial Markets, Treasury.

ACTION: Notice of Call for Large Position Reports.

SUMMARY: The U.S. Department of the Treasury (“Department” or “Treasury”) called for the submission of Large Position Reports by those entities whose positions in the 2¼% Treasury Notes of November 2027 equaled or exceeded $4.58 billion as of January 12, 2018.

DATES: Large Position Reports must be received by 12:00 p.m. Eastern Time on April 16, 2018.

ADDRESSES: The reports must be submitted to the Federal Reserve Bank of New York, Government Securities Dealer Statistics Unit, 6th Floor, 33 Liberty Street, New York, New York 10045; or faxed to 212-720-5025.

FOR FURTHER INFORMATION CONTACT: Lori Santamorena, Kurt Eidemiller, Kevin Hawkins, or John Garrison; Government Securities Regulations Staff, Department of the Treasury, at 202-504-3632.

SUPPLEMENTARY INFORMATION: In a press release issued on April 10, 2018, and in this Federal Register notice, the Treasury called for Large Position Reports from entities whose positions in the 2¼% Treasury Notes of November 2027 equaled or exceeded $4.58 billion as of Friday, January 12, 2018. Entities whose positions in this note equaled or exceeded the $4.58 billion threshold must submit a report to the Federal Reserve Bank of New York. This call for Large Position Reports is pursuant to Treasury's large position reporting rules under the Government Securities Act regulations (17 CFR part 420), promulgated pursuant to 15 U.S.C. 780-5(f). Entities with positions in this note below $4.58 billion are not required to file reports. Reports must be received by the Government Securities Dealer Statistics Unit of the Federal Reserve Bank of New York before 12:00 p.m. Eastern Time on Monday, April 16, 2018, and must include the required position and administrative information. The reports may be faxed to (212) 720-5025 or delivered to the Bank at 33 Liberty Street, 6th floor.

The 2¼% Treasury Notes of November 2027, Series F-2027, have a CUSIP number of 9128283F5, a STRIPS principal component CUSIP number of 9128203W5, and a maturity date of November 15, 2027.

The press release, a copy of a sample Large Position Report, which appears in Appendix B of the rules at 17 CFR part 420, and supplementary formula guidance are available at www.treasurydirect.gov/instit/statreg/gsareg/gsareg.htm.

Non-media questions about Treasury's large position reporting rules should be directed to Treasury's Government Securities Regulations Staff at (202) 504-3632. Questions regarding the method of submission of Large Position Reports should be directed to the Government Securities Dealer Statistics Unit of the Federal Reserve Bank of New York at (212) 720-7993 or (212) 720-8107.

The collection of large position information has been approved by the Office of Management and Budget pursuant to the Paperwork Reduction Act under OMB Control Number 1530-0064.

Clay Berry,
Deputy Assistant Secretary for Capital Markets.

[FR Doc. 2018-07803 Filed 4-11-18; 11:15 am]

BILLING CODE 4810-AS-P